DEPARTMENT OF DEFENSE

Department of the Army; Corps of Engineers

Intent To Prepare a General Reevaluation Report/Supplemental Environment Impact Statement/Environmental Impact Report for the Merced County Streams Project, Merced County, CA

AGENCY: Department of the Army, U.S. Army Corps of Engineers, DoD.

ACTION: Notice of intent.

SUMMARY: In accordance with the National Environmental Policy Act (NEPA) and the California Environmental Quality Act (CEQA), the Sacramento District, U.S. Army Corps of Engineers (Corps) is preparing a draft General Reevaluation Report/Supplemental Environment Impact Statement/Environmental Impact Report (GRR/SEIS/EIR) to evaluate the opportunities to reduce flood damages and to restore riparian habitat in the City of Merced in Merced County, California. The Merced County Streams, California, project was authorized by Section 201 of the Flood Control Act of 1970 (Pub. L. 91-611). The authorized plan includes the construction of new reservoirs, enlargement of existing reservoirs, and levee and channel modifications on three stream groups in the vicinity of Merced. The non-Federal sponsor for this study is the California Reclamation Board (Board). Co-sponsoring the project with the Board is Merced County.

DATES: Submit comments regarding the study by March 13, 2004.

ADDRESSES: Send written comments and suggestions concerning this study to Donald Lash, U.S. Army Corps of Engineers, Sacramento District, Attn: Planning Division (CESPK-PD-R), 1325 J Street, Sacramento, CA 95814.

FOR FURTHER INFORMATION CONTACT: Donald Lash, E-mail at Donald.w.lash@usace.army.mil telephone (916) 557-5172, or fax (916) 557-5138.

SUPPLEMENTARY INFORMATION: 1. Public Involvement: The study will be coordinated between Federal, State, and local governments; local stakeholders; special interest groups; and any other interested individuals and organization. The Corps held a public meeting to discuss the scope of the draft GRR/SEIS/EIR in January 2004. The meeting place, date and time was advertised in advance in local newspapers, and meeting announcement letters were sent to interested parties. The purpose of this meeting is to involve local stakeholders and the public early in the study process. The meeting collected public input regarding the study scope, historic and current problems, and potential opportunities. All public comments were documented for future consideration and reference. Written comments may also be submitted via mail (see DATES) and should be directed to Donald Lash at the address listed above. The Corps intents to issue the draft GRR/SEIS/EIR in the summer of 2007. The Corps will announce availability of the draft document in the Federal Register and other media, and will provide the public, organizations, and agencies with an opportunity to submit comments, which will be addressed in the final GRR/SEIS/EIR.

2. Project Information: The Merced County Streams Project is located in the eastern portion of the San Joaquin Valley, between the Merced and Chowchilla Rivers, in Merced and Mariposa Counties, California. The study area lies east and north of the city of Merced, with downstream channels along Fahrens and Black Rascal Creeks, downstream to Santa Fe Drive. Existing flood control facilities consist of flood retention dams on Burns, Bear, Castle, Owens, and Mariposa Creeks, Black Rascal and Owens Diversion Canals, and channel improvements on associated streams. These facilities protect 16,000 acres of land from flooding and reduce the peak flood flows into the San Joaquin River.

3. Proposed Action: The project is undergoing a general reevaluation study to (1) redefine the flood problems and risks in the Merced County Streams project area by updating hydrology and flood plains, physical, biological and socioeconomic conditions; (2) reevaluate alternatives for reducing flood damages in the area; and (3) reaffirm the Federal interest by recommending a plan that is economically feasible. The results of this study will be presented in the GRR/SEIS/EIR. The formulation and evaluation of alternatives, benefits and costs, and implementation requirements will be presented in the GRR/SEIS/EIR.

4. Alternatives. In addition to the No Action, other potential alternatives to reduce flood damages include a combination of the following components: Raise Bear Dam; install a series of detention basins/seasonal wetland habitat near Fahren's Creek, Cottonwood Creek and/or Black Rascal Creek; raise the existing levees along Black Rascal and Fahren Creeks confluence and/or Bear Creek; build setback levees on Black Rascal Creek; improve existing channels along Black Rascal and Fahren's Creeks confluence and/or Bear Creek, and install a bypass channel off of Bear creek to divert excess flows into wetlands south of Merced.

Luz D. Ortiz,
Army Federal Register Liaison Officer.

[FR Doc. 04-2498 Filed 2-4-04; 8:45 am]

BILLING CODE 3710-EZ-M